ENVIRONMENTAL PROTECTION AGENCY

[EPA-HQ-OPP-2006-0620; FRL-8085-7]

Nominations to the FIFRA Scientific Advisory Panel: Request for Comments

AGENCY: Environmental Protection Agency (EPA).

ACTION: Notice.

SUMMARY: This notice provides the names, addresses, professional affiliations, and selected biographical data of persons nominated to serve on the Scientific Advisory Panel (SAP) established under section 25(d) of the Federal Insecticide, Fungicide, and Rodenticide Act (FIFRA). The Panel was created on November 28, 1975, and made a statutory Panel by amendment to FIFRA, dated October 25, 1988. The Agency expects to select one new member to serve on the panel as a result of a vacancy that will occur during the current calendar year. Public comment on the nominations is invited, as these comments will be used to assist the Agency in selecting the new chartered Panel member.

DATES: Comments must be received on or before September 15, 2006.

ADDRESSES: Submit your comments, identified by docket identification (ID) number EPA-HQ-OPP-2006-0620, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Drive, Arlington, VA. Deliveries are only accepted during the Docket's normal hours of operation 8:30 a.m. to 4 p.m., Monday through Friday, excluding legal holidays. Special arrangements should be made for deliveries of boxed information. The Docket telephone number is (703) 305-5805.

Instructions: Direct your comments to docket ID number EPA-HQ-OPP-2006-0620. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Drive, Arlington, VA. The hours of operation of this Docket Facility are from 8:30 a.m. to 4 p.m., Monday through Friday, excluding legal holidays. The Docket telephone number is (703) 305-5805.

FOR FURTHER INFORMATION CONTACT: Myrta R. Christian, Designated Federal Official (DFO), Office of Science Coordination and Policy (7201M), Environmental Protection Agency, 1200 Pennsylvania Ave., NW., Washington, DC 20460-0001; telephone number: (202) 564-8498; fax number: (202) 564-8382; e-mail address: christian.myrta@epa.gov.

SUPPLEMENTARY INFORMATION:

I. General Information

A. Does this Action Apply to Me?

This action is directed to the public in general. This action may, however, be of interest to persons who are or may be required to conduct testing of chemical substances under the Federal Food, Drug, and Cosmetic Act (FFDCA), FIFRA, and the Food Quality Protection Act of 1996 (FQPA). Since other entities may also be interested, the Agency has not attempted to describe all the specific entities that may be affected by this action.

If you have any questions regarding the applicability of this action to a particular entity, consult the person listed under FOR FURTHER INFORMATION CONTACT.

B. What Should I Consider as I Prepare My Comments for EPA?

Tips for preparing your comments. When submitting comments, remember to:

i. Identify the document by docket ID number and other identifying information (subject heading, Federal Register date, and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

Amendments to FIFRA enacted November 28, 1975, include a requirement under section 25(d) that notices of intent to cancel or reclassify pesticide registrations pursuant to section 6(b)(2), as well as proposed and final forms of regulations pursuant to section 25(a), be submitted to a Scientific Advisory Panel prior to being made public or issued to a registrant. In accordance with section 25(d), the SAP is to have an opportunity to comment on the health and environmental impact of such actions. The Panel shall also make comments, evaluations, and recommendations for operating guidelines to improve the effectiveness and quality of analyses made by Agency scientists.

In accordance with the statute, the SAP is composed of a permanent panel of seven members, selected and appointed by the Deputy Administrator of EPA from nominees submitted by both the National Science Foundation and the National Institutes of Health. The Agency expects to select one new member to serve on the panel as a result of a vacancy that will occur during the current calendar year. The Agency requested nominations of experts to be selected from the field of ecotoxicology and ecological risk assessment (including probabilistic ecological risk assessment). Nominees should be well published and current in their fields of expertise. The statute further stipulates that the name, address, and professional affiliation of each nominee be published in the Federal Register.

III. Charter

A Charter for the FIFRA Scientific Advisory Panel dated October 25, 2004 was issued in accordance with the requirements of the Federal Advisory Committee Act, Public Law 92-463, 86 Stat. 770 (5 U.S.C. App. I).

A. Qualifications of Members

Members are scientists who have sufficient professional qualifications, including training and experience, to assess the impact of pesticides on health and the environment. No persons are ineligible to serve on the Panel by reason of their membership on any other advisory committee to a Federal department or agency or their employment by a Federal department or agency (except the EPA). The Deputy Administrator appoints individuals to serve on the Panel for staggered terms of 4 years. Panel members are subject to the provisions of 40 CFR part 3, subpart F, Standards of Conduct for Special Government Employees, which include rules regarding conflicts of interest. Each nominee selected by the Deputy Administrator, before being formally appointed, is required to submit a confidential statement of employment and financial interests, which shall fully disclose, among other financial interests, the nominee's sources of research support, if any.

In accordance with section 25(d)(1) of FIFRA, the Deputy Administrator shall require all nominees to the Panel to furnish information concerning their professional qualifications, educational background, employment history, and scientific publications.

B. Applicability of Existing Regulations

With respect to the requirements of section 25(d) of FIFRA that the Administrator promulgate regulations regarding conflicts of interest, the Charter provides that EPA's existing regulations applicable to Special Government Employees, which include advisory committee members, will apply to the members of the SAP. These regulations appear in 40 CFR part 3, subpart F. In addition, the Charter provides for open meetings with opportunities for public participation.

C. Process of Obtaining Nominees

In accordance with the provisions of section 25(d) of FIFRA, in March 2006, EPA requested the National Institutes of Health (NIH) and that the National Science Foundation (NSF) nominate scientists to fill one vacancy occurring on the Panel. The Agency requested nominations of experts in the field of ecotoxicology and ecological risk assessment including probabilistic ecological risk assessment. NIH and NSF responded by letter, providing the Agency with a total of 12 nominees. Seven of the 12 nominees are interested and available to actively participate in SAP meetings (see IV Nominees). The following five nominees are not available.

1. Barnthouse, Lawrence, Ph.D., LWB Environmental Services, Inc., Oak Ridge, TN.

2. Harrahy, Elisabeth, Ph.D., Wisconsin Department of Natural Resources, Madison, WI.

3. Kelly, Elizabeth, Ph.D., Los Alamos National Laboratory, Los Alamos, NM.

4. Oberdorster, Eva, Ph.D., Southern Methodist University, Dallas, TX.

5. Piegorsch, Walter, Ph.D., University of South Carolina, Columbia, SC.

IV. Nominees

The following are the names, addresses, professional affiliations, and selected biographical data of the seven nominees being considered for membership on the FIFRA Scientific Advisory Panel. The Agency expects to select one of the nominees to fill a vacancy occurring this year.

1. Nominee: Autenrieth, Robin L., Ph.D., P.E., Professor, and Assistant Department Head, Department of Civil Engineering, Texas A and M University, College Station, TX.

i. Expertise: Biological sciences and environmental engineering.

ii. Education: B.S., Biological Sciences, University of Maryland; M.S., Civil and Environmental Engineering, Clarkson University; Ph.D., Civil and Environmental Engineering, Clarkson University.

iii. Professional Experience: Dr. Robin L. Autenrieth is a Professor in the Division of Environmental and Water Resources of the Zachry Department of Civil Engineering at Texas A and M University. She also has a joint appointment in the Department of Environmental and Occupational Health of the Health Science Center's School of Rural Public Health. Dr. Autenrieth teaches classes in environmental engineering related to biological processes, human health risk assessment, and sustainable practices. Her research addresses the fate of chemicals in the environment, notably biological degradation, and improving estimates of exposure and human health risk estimates. Dr. Autenrieth received a B.S. in biological sciences from the University of Maryland, a M.S. and Ph.D. in Environmental Engineering from Clarkson University. As a professor for over 20 years, Dr. Autenrieth integrates her background in biological sciences with engineering. Her early research focused on biodegradation of xenobiotic and hazardous chemicals with particular emphasis on hydrocarbons released in nearshore environments. She was one of the principals in one of the few programs allowed to exercise controlled releases of oil to wetlands to study natural recovery and remediation strategies. Other biodegradation work with explosives and chemical warfare agents led to collaborations with colleagues in the former Soviet Union. More recently she has been using quantitative structural analysis techniques to relate both biodegradability and toxicity to generate factors that can be used in predicting the behavior of uncharacterized compounds for their fate in the environment or potential human health impact upon exposure. Laboratory studies to evaluate biodegradation kinetics of a range of chemicals have led to current studies on estrogenic compounds (e.g. hormones) and antibiotics released from confined animal operations and their impact on exposed environments. She is serving on a National Academy of Sciences committee to evaluate secondary wastes from the destruction of chemical warfare agents and has served on similar committees in the past. In Civil Engineering she serves as the Assistant Department Head.

2. Nominee: Chandler, G. Thomas, Ph.D., Professor and Chairman, Department of Environmental Health Sciences, University of South Carolina, Columbia, SC.

i. Expertise: Ecotoxicology, toxicology, aquatic/marine ecology.

ii. Education: B.Sc., Biology and Marine Biology, University of North Carolina at Wilmington; M.Sc., Zoology, Louisiana State University; Ph.D., Zoology (Statistics Minor), Louisiana State University.

iii. Professional Experience: Dr. Chandler received his Ph.D. in Zoology with a minor in Applied Statistics from Louisiana State University in 1986, where he studied soft-sediment benthic ecology, ecotoxicology, and developed novel methods for sediment-based culture of meiobenthos. He was awarded a Fulbright Post-Doctoral fellowship in 1987 to study with Professor Olav Giere of the University of Hamburg. Dr. Chandler's research in Germany characterized ecological interactions among sediment-associated bacteria, foraminifera and copepods inhabiting estuaries of the North Sea Wattenmeer. From 1991 to the present, Dr. Chandler has been affiliated with the Arnold School of Public Health at the University of South Carolina, where he has published more than 70 articles, and progressed from assistant to full professor in 7 years. His competitive research support has totaled more than 30 projects for over $9-million, with primary support from the EPA, NOAA, and the NSF. Dr. Chandler's present research focus is in estuarine ecotoxicology with an emphasis on developing rapid screens for environmental detection of endocrine disruption in crustaceans using copepod models, and evaluating/modeling population-level risks of pesticide and ED exposure. He recently authored the ASTM E2317-04 standard method for lifecycle bioassay of sublethal developmental and reproductive toxicants using a 96-well microplate format. This method is presently being validated by the OECD for rapid Tier 2 evaluation of chemicals' endocrine disrupting potentials. He has published extensively on effects, fate and behavior of pesticides used in coastal environments of the southeastern US. In collaboration with the NOAA Center for Coastal Environmental Health and Biomolecular Research, Charleston, SC, Dr. Chandler performs extensive research on the toxicological impacts of urban-use pesticides on sediment-dwelling fauna exposed to golf-course and sewage effluents in salt-marsh estuaries. Dr. Chandler is presently professor and chairman of the Department of Environmental Health Sciences, US delegate to the Environmental Directorate of the OECD (Paris), and member of the Bilateral Biomarker Working Group, Office of Science, French Embassy.

3. Nominee: deFur, Peter L., Ph.D., President, Environmental Stewardship Concepts; and Affiliate Associate Professor, Center for Environmental Studies, Virginia Commonwealth University, Richmond, VA.

i. Expertise: Risk assessment and ecological risk assessment.

ii. Education: B.S. and M.A., Biology, The College of William and Mary; Ph.D., Biology, University of Calgary.

iii. Professional Experience: Dr. Peter L. deFur is president of Environmental Stewardship Concepts, an independent private consultant, and an Affiliate Associate Professor and Graduate Coordinator in the Center for Environmental Studies at Virginia Commonwealth University where he conducts research on environmental health and ecological risk assessment. He served a term on the National Research Council Board on Environmental Studies and Toxicology (BEST) and has served on several NRC study committees. Dr. deFur has served on federal advisory committees and works with professional associations.

Dr. deFur received B.S. and M.A. degrees in Biology from the College of William and Mary in Virginia, and a Ph.D. in Biology (1980) from the University of Calgary, Alberta. He was a postdoctoral fellow in neurophysiology in the Department of Medicine at the University of Calgary. Dr. deFur held faculty positions at George Mason University and Southeastern Louisiana University before joining the staff of the Environmental Defense Fund (EDF) in Washington, DC. At EDF, Dr. deFur was involved in policy issues that include habitat preservation and quality, wetlands regulations, water quality analysis and risk assessment.

Dr. deFur has extensive experience in risk assessment and ecological risk assessment regulations, guidance and policy. He served on the NAS/NRC Risk Characterization Committee that released its report, Understanding Risk, in June 1996. Dr. deFur served on numerous scientific reviews of EPA ecological and human health risk assessments, including the assessment for the WTI incinerator in Ohio and EPA's Ecological Risk Assessment Guidelines. Dr. deFur has served on three federal advisory committees for EPA's Endocrine Disruptor Screening and Testing Program. Dr. deFur presently serves as technical advisor to citizen organizations concerning the cleanup of contaminated sites at Formerly Used Defense Sites (FUDS), Comprehensive Environmental Response, Compensation, and Liability Act (CERCLA) and Resource Conservation and Recovery Act (RCRA) sites.

4. Nominee: Harwell, Mark A., Ph.D., Principal, Harwell Gentile and Associates, LC, Palm Coast, FL.

i. Expertise: Ecological risk assessments and ecosystem management.

ii. Education: B.S., Biology, Emory University; M.S., Marine Ecology, University of Miami; Ph.D., Systems Ecology, Emory University.

ii. Professional Experience: Dr. Harwell is an ecosystems ecologist with expertise in ecological risk assessments and ecosystem management. He (with colleague Dr. Jack Gentile) is currently a Partner in Harwell Gentile and Associates, LC, following a 25-year career in academia at Cornell University, the University of Miami Rosenstiel School, and Florida A and M University. Drs. Harwell and Gentile were leaders in the development of the EPA ecological risk assessment framework, and have led several large risk assessments, including comparative ecological risk assessments of oil spills in Tampa Bay and the Bay of Fundy; an ecological risk assessment of the effects of climate change and the South Florida ecosystem restoration on the Everglades and Biscayne Bay; an ecotoxicological risk assessment of the Coeur d'Alene River watershed; and an assessment of the current ecological significance of effects from the Exxon Valdez oil spill on Prince William Sound. Dr. Harwell led a series of interdisciplinary studies on human interactions with the South Florida environment, including field, mesocosm, and modeling studies in Biscayne Bay and the Florida Keys National Marine Sanctuary. He coordinated interdisciplinary studies in five National Estuarine Research Reserves, developing conceptual models of coupled human-environment systems, and contributing to ecological assessments using remote sensing and hyperspectral imagery. Dr. Harwell served for more than a decade as a member of the EPA Science Advisory Board (SAB), including two terms as Chair of the Ecological Processes and Effects Committee. He led the ecological risk component of the EPA Unfinished Business Project, and was a member of the EPA SAB Reducing Risk project. He chaired the U.S. Man and the Biosphere Human-Dominated Systems Directorate, and led its project on ecological sustainability, ecosystem management, and an ecosystem integrity report card framework. He led the Scientific Committee on Problems of the Environment (SCOPE) 5-year international study to assess the global environmental consequences of nuclear war (ENUWAR), with emphasis on ecological responses to climate change. He directed the PAN-EARTH Project, a series of national-level case studies on the ecological and agricultural effects of climate variability on Venezuela, India, Japan, China, and Sub-Saharan Africa; he was a member of the U.S. Global Change Research Program's National Assessment working group on coastal resources effects; and he serves as an expert reviewer for the Intergovernmental Panel on Climate Change. He served on the National Academy of Sciences panel on ecological risks in the U.S. and Poland, and was a member of the NAS panel on risk communications. Dr. Harwell also served as a member of the National Academy of Sciences Board on Environmental Studies and Toxicology, and was elected a Fellow of AAAS.

5. Nominee: Hooper, Michael, Ph.D., Associate Professor, The Institute of Environmental and Human Health, Texas Tech University, Lubbock, TX.

i. Expertise: Environmental toxicology.

ii. Education: B.S., Biochemistry, California Polytechnic State University; Ph.D., Pharmacology and Toxicology, University of California at Davis.

iii. Professional Experience: Dr. Michael Hooper is an associate professor in the Environmental Toxicology Department and a member of The Institute of Environmental and Human Health at Texas Tech University. He received his B.S. degree in Biochemistry at California Polytechnic State University in 1981 and his Ph.D. in Pharmacology and Toxicology at the University of California at Davis in 1988. After a research faculty position at Western Washington University's Huxley College, he moved to Clemson University in 1989 where he was a member of the graduate faculty of Environmental Toxicology and The Institute of Wildlife and Environmental Toxicology. He moved to his current position at Texas Tech University in 1997. His area of expertise is the impacts of chemical contaminants on the health of wildlife inhabiting environments contaminated with pesticides or chemical wastes, with an emphasis on the use of such data in regulatory or remediation decision making. His current research investigates the bioaccumulation and effects of chemicals from mixtures that occur on contaminated sites, studying animals that inhabit these sites and working to develop assay methods that allow assessments of vertebrate species risk through food and water exposure routes. Dr. Hooper was an advisor for the Avian Effects Dialog Group, served on the EPA's ECOFRAM panel to establish probabilistic risk assessment guidelines for pesticides, and is currently a member of the EPA Science Advisory Board panel on Aquatic Life Criteria. His research program is funded through grants from NIEHS, EPA, USFWS and USGS.

6. Nominee: Klaine, Stephen J., Ph.D., Professor, Department of Biological Sciences, Clemson University, Pendleton, SC.

i. Expertise: Aquatic toxicology, Ecological Risk Assessment.

ii. Education: B.S., Biology, University of Cincinnati; M.S., Environmental Science, Rice University; Ph.D., Environmental Science, Rice University.

iii. Professional Experience: Stephen J. Klaine is a Professor in the Department of Biological Sciences and the Graduate Program of Environmental Toxicology at Clemson University. His research interest involves quantifying the impact of land use on aquatic ecosystems and developing strategies by which economically viable land-use can coexist with good environmental quality. He received his doctorate from the Department of Environmental Science and Engineering, Rice University in 1982 and has spent the last 24 years conducting environmental research and educating graduate students. He joined the Department of Biology, University of Memphis, in 1982 where he developed an undergraduate concentration in toxicology, an extramurally-funded research program in environmental toxicology, and a graduate program that produced 8 M.S. and 4 Ph.D. graduates. In 1991, he moved his laboratory to Clemson University to help found the graduate program in environmental toxicology. Since then, he has graduated over 25 M.S. and 20 Ph.D. students from Clemson University. Current research in his laboratory focuses on characterizing: i. The bioavailablity of metals and pesticides in aquatic systems; ii. the comparative phytotoxicity of pesticides; iii. the response of aquatic organisms to episodic contaminant exposures; iv. the water quality consequences of land use; v. the effects of pharmaceuticals on fish behavior; vi. the bioavailability of single-walled carbon nanotubes in aquatic systems; and vii. the bioavailability of PCBs in aquatic systems and the movement of PCBs through the aquatic and terrestrial food chain. In addition, he is principal investigator on several proposals and projects that focus on integrating natural and social scientists to solve problems regarding natural resource management. He has served as principle investigator or co-principle investigator on over $8-million in research funding. He has previously served on the board of directors for the Society of Environmental Toxicology and is currently an aquatic toxicology editor for the journal Environmental Toxicology and Chemistry. In the last decade, he has served on several EPA Science Advisory Panels and Workshops involving pesticide and metal fate, effects and risk.

7. Nominee: Schlenk, Daniel, Ph.D., Professor, Department of Environmental Sciences, University of California, Riverside, CA.

i. Expertise: Aquatic ecotoxicology.

ii. Education: B.S., Toxicology, Northeast Louisiana University; Ph.D., Toxicology, Oregon State University.

iii. Professional Experience: Dr. Daniel Schlenk is Professor of Aquatic Ecotoxicology and Environmental Toxicology at the University of California Riverside. Dr. Schlenk received his Ph.D. in Toxicology from Oregon State University in 1989. He was supported by a National Institute of Environmental Health Science postdoctoral fellowship at Duke University from 1989-1991. Since 2003, he has been a member of the Board of Directors for the North American Society of Environmental Toxicology and Chemistry and has been a visiting Scholar in the Department of Biochemistry, Chinese University of Hong Kong; a recipient of the Ray Lankester Investigatorship of the Marine Biological Association of the United Kingdom; a visiting Scholar of the Instituto Del Mare, Venice Italy; and a Visiting Scientist at the CSIRO Lucas Heights Laboratory, in Sydney Australia. He has served on the EPA Science Advisory Board for Aquatic Life Criteria Guidelines and on proposal review panels for the EPA, NOAA, and the National Institutes of Health. He is the co-editor-in chief of Aquatic Toxicology and serves on the editorial boards of Toxicological Sciences, Environmental Toxicology and Chemistry, The Asian Journal of Ecotoxicology and Marine Environmental Research. He has co-edited a 2 volume series entitled “Target Organ Toxicity in Marine and Freshwater Teleosts” and has published more than 115 peer reviewed journal articles. His research interests revolve around the fate and effects of pesticides in aquatic organisms. In particular, his laboratory has focused on the impacts of hypersaline water on the biotransformation and enantioselective toxicity of endocrine-modulating pesticides to aquatic organisms.

List of Subjects

Environmental protection, Pesticides and pests.

Dated: August 8, 2006.
Elizabeth Resek,
Acting Director, Office of Science Coordination and Policy

[FR Doc. E6-13344 Filed 8-15-06; 8:45 am]

BILLING CODE 6560-50-S